OFFICE OF PERSONNEL MANAGEMENT

5 CFR Part 110

RIN 3206-AJ73

Posting Regulations

AGENCY: Office of Personnel Management.

ACTION: Final rule.

SUMMARY: The Office of Personnel Management (OPM) is issuing final regulations to revise the rules relating to notice of new regulations and information collection requirements. The revisions include eliminating one subpart and renaming the remaining subpart and plain language modifications.

DATES: Effective Date: This regulation is effective on July 16, 2004.

FOR FURTHER INFORMATION CONTACT: Robert T. Coco, (202) 606-1822, Fax: (202) 606-0909, or e-mail rtcoco@opm.gov.

SUPPLEMENTARY INFORMATION: On March 6, 2003, the Office of Personnel Management (OPM) published a proposed rule (68 FR 10666) revising part 110 of title 5, Code of Federal Regulations. The proposed rule had a 60-day comment period, during which OPM received no comments. The final rule is identical to the proposed rule. The rule will make the following revisions to title 5, Code of Federal Regulations. Part 110 is revised to reflect the removal of old subpart B—Information Collection Requirements. Old subpart B was a requirement arising from an internal OPM housekeeping function no longer in effect. Its removal requires us to eliminate the old subpart A designation and use the designation part 110 to refer to the remaining material. We have also made minor word changes and changed the order of material within the section. Except as otherwise noted, the purpose of these revisions is not to make substantive changes but, rather, to make part 110 more readable.

Section 110.101: Changes “special bulletins” to “notice” and changes “new regulations” to “new proposed, interim, and final regulations.” Corrects the name of the type of issuance currently used, which was changed in 1994 when the bulletin system was abolished, and clarifies regulation description to indicate that it includes new proposed, interim, and final regulations.

Section 110.101(b): (Note old paragraphs (a) and (b) have been reversed, and redesignated as paragraphs (b) and (a), respectively, so that they are now in a more logical sequence). Provides the option for viewing documents either in paper format or via Web site, thus providing the ability to use electronic as well as paper format of documents.

Section 110.102(b): Adds “agency Web sites” as a supplemental posting option. This provides the option for an agency to make new OPM regulations available on the agency's Web site or through a link to the OPM Web site.

Regulatory Flexibility Act

I certify that this proposed regulation will not have a significant economic impact on a substantial number of small entities.

Executive Order 12866, Regulatory Review

The Office of Management and Budget has reviewed this rule in accordance with Executive Order 12866.

List of Subjects in 5 CFR Part 110

Government employees, Reporting and recordkeeping requirements.

Office of Personnel Management.
Kay Coles James,
Director.

Accordingly, OPM is revising part 110 of title 5, Code of Federal Regulations as follows:

PART 110—POSTING NOTICES OF NEW OPM REGULATIONS

Authority: 5 U.S.C. 1103.

§ 110.101 What are OPM's Notice and Posting System responsibilities?

OPM will issue a notice that will provide information for Federal agencies, employees, managers, and other stakeholders on each of its new proposed, interim, and final regulations. Each notice will transmit:

(a) A posting notice that briefly explains the nature of the change, and provides a place for Federal agencies to indicate where the full text of the Federal Register notice will be available for review.

(b) A copy of the notice of rulemaking that appears in the Federal Register or a link to a Web site where the notice of rulemaking appears.

§ 110.102 What are Agency responsibilities?

(a) Agencies will make regulations available for review by employees, managers, and other interested parties. Federal agencies receiving the notices of rulemaking described in § 110.101(b) will make those regulations available for review upon request. Each agency will complete the posting notice described in § 110.101(a) indicating where and how requests to review these materials should be made.

(b) Agencies will determine posting locations and, if desired, develop supplemental announcements. Agencies will display completed posting notices in a prominent place where the notices can be easily seen and read. Agencies will choose the posting location that best fits their physical layout. Agencies may supplement these postings with announcements in employee newsletters, agency Web sites, or other communication methods. The basic requirement to post the notice continues, however, even if supplemental announcement methods are used.

(c) Agencies will post notices of the new regulations even if the Federal Register comment date has passed. The public comment period on proposed regulations begins when a notice of proposed rulemaking is published in the Federal Register, not with the posting of the notice described in § 110.101(a). The purpose of posting notice is solely to inform agency personnel of changes. Agencies are required to post the posting notice even if the formal deadline for comments shown in the preamble of the Federal Register notice of rulemaking has passed. Agencies should make every reasonable effort to minimize delays in distributing the notice described in § 110.101 to their field offices.

(d) No fixed posting period. There are no minimum or maximum time limits on displaying the notice described in § 110.101(a). Each office receiving a notice for posting should choose the posting period which provides the best opportunity to inform managers and employees of regulatory changes based upon office layout, geographic dispersion of employees, and other local factors.

[FR Doc. 04-13558 Filed 6-15-04; 8:45 am]

BILLING CODE 6325-44-P